DEPARTMENT OF STATE

[Public Notice 4190]

Advisory Committee on International Economic Policy; Notice of Open Meeting

The Advisory Committee on International Economic Policy (ACIEP) will meet from 9:15 a.m. to 11:45 a.m. on Tuesday, November 19, 2002 at the DACOR Bacon House, 1801 F Street NW., Washington, DC 20006. The meeting will be hosted by Committee Chairman R. Michael Gadbaw and Assistant Secretary of State for Economic and Business Affairs E. Anthony Wayne.

The ACIEP serves the U.S. Government in a solely advisory capacity concerning issues and problems in international economic policy. The objective of the ACIEP is to provide expertise and insight on these issues that are not available within the U.S. Government.

Topics for the November 19 meeting will be:

• Corporate Responsibility

• Business Visas

• Outcome of the Asia-Pacific Economic Cooperation Leaders Meeting

The public may attend these meetings as seating capacity allows. The media is welcome but discussions are off the record.

For further information about the meeting, please contact Eliza Koch, ACIEP Secretariat, Office of Economic Policy and Public Diplomacy, Economic Bureau, U.S. Department of State, Room 3526, 2201 C Street NW, Washington, DC 20520, Tel (202) 647-1310.

Dated: November 6, 2002.
Eliza Koch,
Executive Secretary, Advisory Committee on International Economic Policy.

[FR Doc. 02-28819 Filed 11-8-02; 8:45 am]

BILLING CODE 4710-07-P